DEPARTMENT OF THE INTERIOR

Bureau of Ocean Energy Management

[Docket No. BOEM-2023-0011]

Notice of Availability of a Draft Environmental Impact Statement for SouthCoast Wind Energy, LLC's (Formerly Mayflower Wind Energy, LLC) Proposed Wind Energy Facility Offshore Massachusetts; Extension of Comment Period

AGENCY: Bureau of Ocean Energy Management (BOEM), Interior.

ACTION: Draft environmental impact statement (DEIS); extension of comment period.

SUMMARY: On February 17, 2023, BOEM published a notice of availability (NOA) in the Federal Register announcing a public comment period regarding the DEIS for SouthCoast Wind Energy, LLC's (SouthCoast Wind) construction and operations plan (COP) for a proposed wind energy facility offshore Massachusetts. BOEM is extending the comment period on the DEIS. This notice announces a 15-day extension of the public comment period from April 3, 2023, to April 18, 2023. After BOEM addresses comments provided, BOEM will publish a final environmental impact statement (FEIS). The FEIS will inform BOEM's decision whether to approve, approve with modifications, or disapprove the COP.

DATES: Comments must be received no later than April 18, 2023.

ADDRESSES: The DEIS and detailed information about SouthCoast Wind's project, including the COP, can be found on BOEM's website at https://www.boem.gov/renewable-energy/state-activities/southcoast-wind. Comments can be submitted in any of the following ways:

• In written form by mail, enclosed in an envelope labeled, “SouthCoast Wind COP DEIS” and addressed to Program Manager, Office of Renewable Energy Programs, Bureau of Ocean Energy Management, 45600 Woodland Road, Sterling, VA 20166.

• Through the regulations.gov web portal: Navigate to http://www.regulations.gov and search for Docket No. BOEM-2023-0011. Click on the “Comment” button below the document link. Enter your information and comment, then click “Submit Comment.”

FOR FURTHER INFORMATION CONTACT: Jessica Stromberg, BOEM Office of Renewable Energy Programs, 45600 Woodland Road, Sterling, Virginia 20166, (703) 787-1730 or jessica.stromberg@boem.gov.

SUPPLEMENTARY INFORMATION: BOEM is extending the comment period for the SouthCoast Wind DEIS because the revised version of the COP used to prepare the DEIS was recently posted on BOEM's website at https://www.boem.gov/renewable-energy/state-activities/southcoast-wind-formerly-mayflower-wind/. The DEIS analyzed the effects from the revised COP, not the original COP, and reflects the applicant's most current proposal. Please refer to the NOA published in the Federal Register (88 FR 10378) on February 17, 2023, for further information.

Comments already submitted in response to the February 17, 2023, NOA do not need to be resubmitted. BOEM discourages anonymous comments. Please include your name and address as part of your comment. BOEM makes all comments in their entirety, including your name and address, available for public review online and during regular business hours. You may request that BOEM withhold your name, address, or any other personal identifiable information (PII) included in your comment from the public record. However, BOEM cannot guarantee that it will be able to do so. If you wish your name, address, or other PII to be withheld, you must state your request prominently in a cover letter and explain the harm that you fear from its disclosure such as unwarranted privacy invasion, embarrassment, or injury. All submissions from organizations or businesses and from individuals identifying themselves as representatives or officials of organizations or businesses will be made available for public inspection in their entirety.

Authority: 42 U.S.C. 4231 et seq. (NEPA, as amended) and 40 CFR 1506.6.

Karen Baker,
Chief, Office of Renewable Energy Programs, Bureau of Ocean Energy Management.

[FR Doc. 2023-06980 Filed 4-3-23; 8:45 am]

BILLING CODE 4340-98-P